DEPARTMENT OF ENERGY

Federal Energy Regulatory Commission

[Project No. 4254-011]

Brentwood Dam Ventures, LLC; Notice of Proposed Termination of Exemption by Implied Surrender and Soliciting Comments, Protests and Motions To Intervene

Take notice that the following hydroelectric proceeding has been initiated by the Commission:

a. Type of Proceeding: Proposed Termination of Exemption by Implied Surrender.

b. Project No.: 4254-011.

c. Date Initiated: July 20, 2016.

d. Exemptee: Brentwood Dam Ventures, LLC.

e. Name and Location of Project: Exeter River Hydro #1 Project located on the Exeter River, in Rockingham County, New Hampshire.

f. Filed Pursuant to: 18 CFR 4.106.

g. Exemptee Contact Information: Mr. Naoto Inoue, 25 Limerick Road, Arundel, Maine 04046, Phone: (207) 985-0088.

h. FERC Contact: Mr. Ashish Desai, (202) 502-8370, Ashish.Desai@ferc.gov.

i. Deadline for filing comments, protests, and motions to intervene is 30 days from the issuance date of this notice by the Commission. The Commission strongly encourages electronic filing. Please file comments, protests, and motions to intervene using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-4254-011.

j. Description of Project Facilities: (1) An 110-foot-long, 15-foot-high concrete dam; (2) a 24-acre reservoir; (3) an intake structure; (4) turbine-generator units with an installed capacity of 72 kilowatts; and (5) appurtenant facilities.

k. Description of Proceeding: The exemptee is in violation of Standard Article 1 of the exemption, issued on December 1, 1981 (17 FERC ¶ 62,321), and the Commission's regulations at 18 CFR 4.106. Article 1 provides, among other things, that the Commission reserves the right to revoke an exemption if any term or condition of the exemption is violated.

The exemptee's failure to operate and maintain the project as authorized by its exemption is a violation of Standard Article 1. Commission records indicate that the project has not been operated since 1998. The current exemptee acquired the project in February 2009 and has been unable to restore project operation. On December 19, 2013, the exemptee filed a plan and schedule to restore project operation, which Commission staff approved with the requirement that the exemptee file quarterly progress reports starting October 1, 2014. The exemptee did not file the first progress report. By letter on December 19, 2014, Commission staff requested that the exemptee file the overdue progress report. In response, on January 9, 2015, the exemptee filed a request for an extension of time stating it was unable to move forward with the approved plan and schedule and needed more time to reevaluate and formulate a plan of action. By telephone on March 12, 2015, Commission staff contacted the exemptee to inquire about the non-operational status of the project. In response, the exemptee reiterated its need for additional time and stated it was looking for a buyer for the project. By letter on April 15, 2016, Commission staff again requested that the exemptee file a plan and schedule to restore project operation. In addition, Commission staff informed the exemptee that it was non-compliant with the exemption and that failure to maintain and operate the project as authorized would result in termination of the exemption by the Commission. On April 27, 2016, the exemptee filed a response stating the project was still for sale, but did not file a plan and schedule or any other information regarding its efforts to restore project operation.

l. This notice is available for review and reproduction at the Commission in the Public Reference Room, Room 2A, 888 First Street NE., Washington, DC 20426. The notice and other project records may also be viewed on the Commission's Web site at http://www.ferc.gov/docs-filing/elibrary.asp. Enter the Docket number (P-4254-011) excluding the last three digits in the docket number field to access the notice. You may also register online at http://www.ferc.gov/docs-filing/esubscription.asp to be notified via email of new filings and issuances related to this or other pending projects. For assistance, call toll-free (866) 208-3676 or email FERCOnlineSupport@ferc.gov. For TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS,” “PROTEST,” or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, protests, or motions to intervene should relate to project works which are the subject of the implied surrender. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding in accordance with 18 CFR 4.34(b) and 385.2010.

Dated: July 20, 2016.
Kimberly D. Bose,
Secretary.

[FR Doc. 2016-17860 Filed 7-27-16; 8:45 am]

BILLING CODE 6717-01-P